FEDERAL COMMUNICATIONS COMMISSION

[FRS 19500]

Intent To Establish the 911 Strike Force Federal Advisory Committee

AGENCY: Federal Communications Commission.

ACTION: Notice.

SUMMARY: In accordance with the Federal Advisory Committee Act, the Federal Communications Commission (Commission) announces its intent to establish a Federal Advisory Committee (FAC), known as the “Ending 9-1-1 Fee Diversion Now Strike Force” (911 Strike Force).

ADDRESSES: Federal Communications Commission, 45 L Street NE, Washington, DC 20554.

FOR FURTHER INFORMATION CONTACT: John A. Evanoff, Designated Federal Officer, Federal Communications Commission, Public Safety and Homeland Security Bureau, (202) 418-0848, or email: John.Evanoff@fcc.gov; or Jill Coogan, Deputy Designated Federal Officer, Federal Communications Commission, Public Safety and Homeland Security Bureau, (202) 418-1499, or email: Jill.Coogan@fcc.gov.

SUPPLEMENTARY INFORMATION: The Acting Chairwoman of the Federal Communications Commission, as required by section 902 of the Consolidated Appropriations Act, 2021, Public Law 116-260 (Don't Break Up the T-Band Act of 2020), is taking appropriate steps to establish the 911 Strike Force, a FAC, which Congress has deemed necessary and in the public interest. After consultation with the General Services Administration, the Commission intends to establish the charter on or before June 25, 2021, and the 911 Strike Force will have authorization to operate until approximately 270 days from the enactment of section 902 (September 23, 2021), or until such time as it has completed its statutory duties, but in no case more than two (2) years from its establishment.

As required by section 902(d)(3), the 911 Strike Force shall study how the Federal Government can most expeditiously end diversion of 911 fees and charges by states and other taxing jurisdictions (911 fee diversion). In carrying out this study, the 911 Strike Force shall: “(i) determine the effectiveness of any Federal laws, including regulations, policies, and practices, or budgetary or jurisdictional constraints regarding how the Federal Government can most expeditiously end diversion by a State or taxing jurisdiction of 9-1-1 fees or charges;

(ii) consider whether criminal penalties would further prevent diversion by a State or taxing jurisdiction of 9-1-1 fees or charges; and (iii) determine the impacts of diversion by a State or taxing jurisdiction of 9-1-1 fees or charges.” Not later than approximately September 23, 2021, the 911 Strike Force shall publish on the website of the Commission and submit to the Committee on Energy and Commerce of the House of Representatives and the Committee on Commerce, Science, and Transportation of the Senate a report on the findings of the study required by section 902, including “(i) any recommendations regarding how to most expeditiously end the diversion by a State or taxing jurisdiction of 9-1-1 fees or charges, including actions that can be taken by Federal departments and agencies and appropriate changes to law or regulations; and (ii) a description of what progress, if any, relevant Federal departments and agencies have made in implementing the recommendations under clause (i).” Pursuant to section 902(d)(3)(C), “[t]he Strike Force shall be composed of such representatives of Federal departments and agencies as the Commission considers appropriate, in addition to—(i) State attorneys general; (ii) States or taxing jurisdictions found not to be engaging in diversion of 9-1-1 fees or charges; (iii) States or taxing jurisdictions trying to stop the diversion of 9-1-1 fees or charges; (iv) State 9-1-1 administrators; (v) public safety organizations; (vi) groups representing the public and consumers; and (vii) groups representing public safety answering point professionals.”

Advisory Committee

The 911 Strike Force will be organized under, and will operate in accordance with, the provisions of the Federal Advisory Committee Act (FACA) (5 U.S.C. App. 2). The 911 Strike Force will be solely advisory in nature. Consistent with FACA and its requirements, each meeting of the 911 Strike Force will be open to the public unless otherwise noticed. A notice of each meeting will be published in the Federal Register at least fifteen (15) days in advance of the meeting. Records will be maintained of each meeting and made available for public inspection. All activities of the 911 Strike Force will be conducted in an open, transparent, and accessible manner. The 911 Strike Force shall terminate approximately 270 days from the enactment of section 902 (September 23, 2021), but in no case more than two (2) years from the filing date of its charter. The first meeting date and agenda topics will be described in a Public Notice issued and published in the Federal Register at least fifteen (15) days prior to the first meeting date. In addition, as needed, working groups or subcommittees will be established to facilitate the 911 Strike Force's work between meetings of the full 911 Strike Force. Meetings of the 911 Strike Force will be fully accessible to individuals with disabilities.

Accessible Formats: To request materials in accessible formats for people with disabilities (Braille, large print, electronic files, audio format), send an email to fcc504@fcc.gov or call the Consumer and Governmental Affairs Bureau at (202) 418-0530 (voice), 1-888-835-5322 (TTY).

Federal Communications Commission.
Lisa Fowlkes,
Chief, Public Safety and Homeland Security Bureau.

[FR Doc. 2021-07089 Filed 4-1-21; 4:15 pm]

BILLING CODE 6712-01-P